DEPARTMENT OF COMMERCE

International Trade Administration

[A-475-703]

Granular Polytetrafluoroethylene Resin from Italy: Rescission of Antidumping Duty Administrative Review

AGENCY: Import Administration, International Trade Administration, Department of Commerce.

EFFECTIVE DATE: January 9, 2009.

FOR FURTHER INFORMATION CONTACT: Shane Subler or Alicia Winston, at (202) 482-0189 or (202) 482-1785, respectively; AD/CVD Operations, Office 1, Import Administration, International Trade Administration, U.S. Department of Commerce, 14th Street & Constitution Avenue, NW, Washington, DC 20230.

SUMMARY: On September 30, 2008, the Department of Commerce (“the Department”) published a notice announcing the initiation of an administrative review of the antidumping duty order on granular polytetrafluoroethylene resin from Italy, covering the period August 1, 2007, through July 31, 2008. See Initiation of Antidumping and Countervailing Duty Administrative Reviews and Requests for Revocation in Part, 73 FR 56794, (September 30, 2008). The review was requested by Solvay Solexis, Inc. and Solvay Solexis S.p.A. (collectively, “Solvay”). We are now rescinding this review as a result of Solvay's withdrawal of its request for an administrative review.

SUPPLEMENTARY INFORMATION:

Background

In accordance with 19 CFR 351.213(b), on August 29, 2008, Solvay timely requested an administrative review of the antidumping duty order on granular polytetrafluoroethylene resin from Italy. Solvay was the only party to request this administrative review. On September 30, 2008, in accordance with 19 CFR 351.221 (c)(1)(i), the Department published its notice of initiation of administrative review of this order for the period August 1, 2007, through July 31, 2008. Solvay withdrew its request for this review on December 9, 2008.

Rescission of Review

Pursuant to 19 CFR 351.213(d)(l), the Secretary will rescind an administrative review, in whole or in part, if the party that requested a review withdraws the request within 90 days of the date of publication of the notice of initiation of the requested review. The Secretary may extend this time limit if the Secretary decides that it is reasonable to do so. Solvay withdrew its request within the 90-day period, and no other party requested a review. Therefore, in response to Solvay's withdrawal of its request for an administrative review, the Department hereby rescinds the administrative review of the antidumping order on granular” polytetrafluoroethylene resin from Italy for the period August 1, 2007, through July 31, 2008.

Assessment

The Department will instruct U.S. Customs and Border Protection (“CBP”) to assess antidumping duties on all appropriate entries. For the company for which this review is rescinded, the antidumping duties shall be assessed at rates equal to the cash deposit of estimated antidumping duties required at the time of entry, or withdrawn from warehouse, for consumption, in accordance with 19 CFR 351.212(c)(1)(i). The Department intends to issue appropriate assessment instructions to CBP 15 days after the date of publication of this notice of rescission of administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protection orders (“APO”) of their responsibility concerning the disposition of proprietary information disclosed under APO in accordance with 19 CFR 351.305(a)(3). Timely written notification of the return/destruction of APO materials or conversion to judicial protective order is hereby requested. Failure to comply with the regulations and terms of an APO is a sanctionable violation.

This determination is issued and published in accordance with sections 751(a)(l) and 777(i)(l) of the Tariff Act of 1930, as amended, and 19 CFR 351.213(d)(4).

Dated: December 30, 2008.
Stephen J. Claeys,
Deputy Assistant Secretary for Antidumping and Countervailing Duty Operations.

[FR Doc. E9-225 Filed 1-9-09; 8:45 am]

BILLING CODE 3510-DS-S